RAILROAD RETIREMENT BOARD

Proposed Data Collection Available for Public Comment and Recommendations

SUMMARY: In accordance with the requirement of section 3506(c)(2)(A) of the Paperwork Reduction Act of 1995 which provides opportunity for public comment on new or revised data collections, the Railroad Retirement Board will publish periodic summaries of proposed data collections.

Comments are invited on: (a) Whether the proposed information collection is necessary for the proper performance of the functions of the agency, including whether the information has practical utility; (b) the accuracy of the RRB's estimate of the burden of the collection of the information; (c) ways to enhance the quality, utility, clarity of the information to be collected; and (d) ways to minimize the burden related to the collection of information on respondents, including the use of automated collection techniques or other forms of information technology.

Title and Purpose of Information Collection

Repayment of Debt: OMB 3220-0169.

When the Railroad Retirement Board (RRB) determines that an overpayment of Railroad Retirement Act (RRA) or Railroad Unemployment Insurance Act (RUIA) benefits has occurred, it initiates prompt action to notify the annuitant of the overpayment and to recover the money owed the RRB. To effect payment of a debt by credit card, the RRB currently utilizes Form G-421f, Repayment by Credit Card.

The RRB is proposing the creation of four additional forms to assist the RRB in the debt collection process. Proposed Form G-421g, Response to Notice of Debt, will be released along with RRB notices of overpayment under the RUIA. Proposed Form G-421h, Response to Notice of Debt, will be released along with RRB notices of overpayment caused by a failure to return RRA payments released after an annuitant's death. Proposed Form G-421i, Response to Notice of Debt, will be released with RRB notices of overpayment of RRA annuities when the overpayment was not caused by the withdrawal of funds deposited to an annuitant's financial institution account after his death and the debtor does not have current entitlement to an RRA annuity. Proposed Form, G-421j, Response to Notice of Debt, will be released with notices of delinquent debt under both the RRA and the RUIA.

All of the proposed forms will offer the repayment options of (1) direct payment by check or money order, (2) the use of a credit card, or (3) monthly installment payments. The G-421g will also offer the option of having a current benefit offset as a method of repayment.

One form is completed by each respondent. Completion is voluntary. RRB procedures pertaining to benefit overpayment determinations and the recovery of such benefits are prescribed in 20 CFR 255 and 340.

The estimate of annual respondent burden is as follows:

Estimate of Annual Respondent Burden
Forms Nos. | Annual responses | Estimated completion time (min) | Burden hours
G-421f | 180 | 5 | 15
G-421g | 14,000 | 10 | 2,333
G-421h | 500 | 10 | 83
G-421i | 1,700 | 10 | 283
G-421j | 11,000 | 10 | 1,833
Total | 27,380 |  | 4,547

I. Additional Information or Comments: To request more information or to obtain a copy of the information collection justification, forms, and/or supporting material, please call the RRB Clearance Officer at (312) 751-3363. Comments regarding the information collection should be addressed to Ronald J. Hodapp, Railroad Retirement Board, 844 N. Rush Street, Chicago, Illinois 60611-2902. Written comments should be recieved within 60 days of this notice.

Chuck Mierzwa,
Clearance Officer.

[FR Doc. 03-8603 Filed 4-8-03; 8:45 am]

BILLING CODE 7905-01-M